DEPARTMENT OF JUSTICE

Antitrust Division

Notice Pursuant to the National Cooperative Research and Production Act of 1993—Nanometer Scale Patterning for Terabyte Capacity Disk Drives

Notice is hereby given that, on February 28, 2002, pursuant to Section 6(a) of the National Cooperative Research and Production Act of 1993, 15 U.S.C. 4301 et seq. (“the Act”), Nanometer Scale Patterning for Terabyte Capacity Disk Drives has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are GE Corporate Research and Development, Niskayuna, NY; Imation Corporation, Oakdale, MN; and IBM Corporation, Almaden Research Center, San Jose, CA. The nature and objectives of the venture are to develop and demonstrate “Nanometer Scale Patterning for Terabyte Capacity Disk Drives”.

Constance K. Robinson,
Director of Operations, Antitrust Division.

[FR Doc. 02-7286 Filed 3-26-02; 8:45 am]

BILLING CODE 4410-11-M